DEPARTMENT OF THE INTERIOR

Fish and Wildlife Service

Endangered and Threatened Species Permit Applications

ACTION: Notice of receipt of applications.

SUMMARY: The following applicants have applied for a permit to conduct certain activities with endangered species. This notice is provided pursuant to section 10(a) of the Endangered Species Act of 1973, as amended (16 U.S.C. 1531, et seq.).

Permit No. TE-836329

Applicant: Blanton and Associates, Austin, Texas.

Applicant requests authorization for recovery purposes to conduct activities with the following federally-listed plants:

Slender rush pea (Hoffmannseggia tenella)

Black lace cactus (Echinocereus reichenbachii var. albertii)

Tobusch fishhook cactus (Ancistrocactus tobuschii)

Texas poppy mallow (Callirhoe scabriuscula)

Sneed pincushion cactus (Coryphanthus sneedii var. sneedii)

Terlingua Creek Cat's-Eye (Cryptantha crassipes)

Lloyd's hedgehog cactus (Echinocereus lloydii)

Davis' green pitaya (Echinocereus viridiflora var. davisii)

Texas snowbells (Styrax texana)

Permit No. TE-24723

Applicant: Colorado River Indian Tribes, Ahakhav Tribal Preserve.

Applicant requests authorization for recovery purposes to conduct presence/absence surveys for the southwestern willow flycatcher (Empidonax traillii extimus) within the Colorado River Indian Tribes Ahakhav Tribal Preserve in La Paz County, Arizona.

Permit No. TE-24755

Applicant: Bureau of Land Management, Kingman Field Office, Kingman, Arizona.

Applicant requests authorization for recovery purposes to conduct presence/absence surveys for the southwestern willow flycatcher (Empidonax traillii extimus) in Mohave and Yavapai Counties, Arizona.

Permit No. TE-821356

Applicant: Grand Canyon Monitoring and Research Center, Flagstaff, Arizona.

Applicant requests authorization for research and recovery purposes to conduct fish monitoring studies for the humpback chub (Gila cypha) in the Little Colorado River and the Colorado River mainstem.

Permit No. TE-24786

Applicant: Bureau of Indian Affairs-Western Regional Office, Phoenix, Arizona.

Applicant requests authorization for recovery purposes to conduct presence/absence surveys for the cactus ferruginous pygmy-owl (Glaucidium brasilianum cactorum) in any Indian Reservation that may have potential habitat in Maricopa, Yuma, Pima, Pinal, Gila, or Yavapai Counties, Arizona.

Permit No. TE-24788

Applicant: Animal and Plant Health Inspection Service/Wildlife Services, Phoenix, Arizona.

Applicant requests authorization to conduct presence/absence surveys for the following federally-listed species in various counties in Arizona:

bald eagle (Haliaeetus leucocephalus)

cactus ferruginous pygmy-owl (Glaucidium brasilianum cactorum)

southwestern willow flycatcher (Empidonax traillii extimus)

Yuma clapper rail (Rallus longirostris yumanensis)

black-footed ferret (Mustela nigripes)

jaguar (Panthera onca)

Mexican gray wolf (Canis lupus baileyi)

Permit No. TE-828830

Applicant: Bureau of Land Management (BLM), Tucson Field Office, Tucson, Arizona.

Applicant requests authorization for recovery purposes to conduct presence/absence surveys for the following federally-listed species occurring on lands administered by the BLM:

Fish: Gila topminnow (Poeciliopsis occidentalis) desert pupfish (Cyprinodon macularius macularius) razorback sucker (Xyrauchen texanus)

Birds: southwestern willow flycatcher (Empidonax traillii extimus) cactus ferruginous pygmy-owl (Glaucidium brasilianum cactorum)

Mammals: lesser long-nosed bat (Leptonycteris curasoae yerbabuenae)

Permit No. TE-819473

Applicant: Grand Canyon National Park, Grand Canyon, Arizona.

Applicant requests authorization for recovery purposes to monitor the southwestern willow flycatcher (Empidonax traillii extimus) and the California condor (Gymnogyps californianus) in Grand Canyon National Park, Arizona.

Permit No. TE-24789

Applicant: Colby Henley, Tucson, Arizona.

Applicant requests authorization for recovery purposes to conduct presence/absence surveys for the cactus ferruginous pygmy-owl (Glaucidium brasilianum cactorum) in southern Arizona.

Permit No. TE-24791

Applicant: Freese and Nichols, Inc., Fort Worth, Texas.

Applicant requests authorization for recovery purposes to conduct presence/absence surveys for the golden-cheeked warbler (Dendroica chrysoparia), black-capped vireo (Vireo atricapillus), and red-cockaded woodpecker (Picoides borealis) within Texas.

Permit No. TE-24792

Applicant: Deborah L. Brewster, Pine, Arizona.

Applicant requests authorization for recovery purposes to conduct presence/absence surveys for the southwestern willow flycatcher (Empidonax traillii extimus) in Arizona and New Mexico.

Permit No. TE-4439

Applicant: Albuquerque Biological Park, Albuquerque, New Mexico.

Applicant requests authorization for scientific research and recovery purposes to collect, hold, spawn, and release the Rio Grande silvery minnow (Hybognathus amarus) and also collect from all river drainages in New Mexico, and hold for public display the following federally-listed fish species:

Gila trout (Oncorhynchus gilae)

Colorado pikeminnow (Ptychocheilus lucius)

razorback sucker (Xyrauchen texanus)

Pecos gambusia (Gambusia nobilis)

Gila topminnow (Poeciliopsis occidentalis)

Permit No. TE-799099

Applicant: Eagle Environmental, Inc.

Applicant requests authorization for recovery purposes to conduct presence/absence surveys for the cactus ferruginous pygmy-owl (Glaucidium brasilianum cactorum) in Arizona, New Mexico, and Texas.

DATES: Written comments on these permit applications must be received on or before May 1, 2000.

ADDRESSES: Written data or comments should be submitted to the Legal Instruments Examiner, Division of Endangered Species/Permits, Ecological Services, P.O. Box 1306, Albuquerque, New Mexico 87103. Please refer to the respective permit number for each application when submitting comments. All comments received, including names and addresses, will become part of the official administrative record and may be made available to the public.

FOR FURTHER INFORMATION CONTACT: The U.S. Fish and Wildlife Service, Ecological Services, Division of Endangered Species/Permits, P.O. Box 1306, Albuquerque, New Mexico 87103. Please refer to the respective permit number for each application when requesting copies of documents. Documents and other information submitted with these applications are available for review, subject to the requirements of the Privacy Act and Freedom of Information Act, by any party who submits a written request for a copy of such documents on or before May 1, 2000, to the address above.

Susan MacMullin,
Programmatic Assistant Regional Director, Ecological Services, Region 2, Albuquerque, New Mexico.

[FR Doc. 00-7811 Filed 3-29-00; 8:45 am]

BILLING CODE 4310-55-P